DEPARTMENT OF COMMERCE

International Trade Administration

[A-570-886]

Polyethylene Retail Carrier Bags from the People's Republic of China: Notice of Extension of Time Limit for the Final Results of the Antidumping Duty Administrative Review

AGENCY: Import Administration, International Trade Administration, Department of Commerce.

EFFECTIVE DATE: March 5, 2007.

FOR FURTHER INFORMATION CONTACT: Laurel LaCivita or Matthew Quigley, AD/CVD Operations, Office 8, Import Administration, International Trade Administration, U.S. Department of Commerce, 14th Street and Constitution Avenue, NW, Washington, DC 20230; telephone: (202) 482-4243 or (202) 482-4551, respectively.

SUPPLEMENTARY INFORMATION:

Background

On September 28, 2005, the Department of Commerce (“the Department”) published in the Federal Register a notice of initiation of the antidumping duty administrative review of Polyethylene Retail Carrier Bags (“PRCBs”) from the People's Republic of China (“PRC”) for the period January 26, 2004, through July 31, 2005. See Initiation of Antidumping and Countervailing Duty Administrative Reviews and Request for Revocation in Part, 70 FR 56631 (September 28, 2005). On September 13, 2006, the Department published the preliminary results. See Polyethylene Retail Carrier Bags from the People's Republic of China: Preliminary Results of Antidumping Duty Administrative Review, 71 FR 54021 (September 13, 2006) (“Preliminary Results”). On January 10, 2007, the Department extended the time period for completion of the final results of this review. See Polyethylene Retail Carrier Bags from the People's Republic of China: Notice of Extension of Time Limit for the Final Results of the Antidumping Duty Administrative Review, 72 FR 1216 (January 10, 2007). On February 15, 2007, the Department extended the time period for completion of the final results of this review a second time. See Polyethylene Retail Carrier Bags from the People's Republic of China: Notice of Extension of Time Limit for the Final Results of the Antidumping Duty Administrative Review, 72 FR 7417 (February 15, 2007). The final results are currently due by February 26, 2007.

Extension of Time Limit for Final Results of Review

Pursuant to section 751(a)(3)(A) of the Tariff Act of 1930, as amended (“the Act”), the Department shall make a final determination in an administrative review of an antidumping duty order within 120 days after the date on which the preliminary determination is published. The Act further provides, however, that the Department may extend that 120-day period to 180 days if it determines it is not practicable to complete the review within the foregoing time period.

The Department finds that it is not practicable to complete the final results of the administrative review of PRCBs from the PRC by February 26, 2007, due to complex issues related to the calculation of surrogate financial ratios. Therefore, in accordance with section 751(a)(3)(A) of the Act, the Department is extending the time period for completion of the final results of this review to 180 days after publication of the Preliminary Results. Therefore, the final results are now due no later than March 12, 2007.

This notice is published in accordance with sections 751(a)(3)(A) and 777(i) of the Act.

Dated: February 26, 2007.
Stephen J. Claeys,
Deputy Assistant Secretary for Import Administration.

[FR Doc. E7-3790 Filed 3-2-07; 8:45 am]

BILLING CODE 3510-DS-S